DEPARTMENT OF ENERGY

Federal Energy Regulatory Commission

[Docket No. CP19-191-000]

Notice of Availability of the Environmental Assessment for the Texas Eastern Transmission Company, L.P. Proposed Bernville Compressor Units Replacement Project

The staff of the Federal Energy Regulatory Commission (FERC or Commission) has prepared an environmental assessment (EA) for the Bernville Compressor Units Replacement Project, proposed by Texas Eastern Transmission, L.P. (Texas Eastern) in the above-referenced docket. Texas Eastern requests authorization to replace two existing natural gas-fired turbine compressor engines and appurtenant facilities at its existing Bernville Compressor Station in Berks, Pennsylvania.

The EA assesses the potential environmental effects of the construction and operation of the Bernville Compressor Units Replacement Project in accordance with the requirements of the National Environmental Policy Act. The FERC staff concludes that approval of the proposed project, with appropriate mitigating measures, would not constitute a major federal action significantly affecting the quality of the human environment.

The project would consist of the following new facilities:

• Installation of one 26,000 horsepower (hp) and one 18,100 hp Solar Turbine Inc. natural gas-fired centrifugal turbine compressor units and associated auxiliary piping and equipment;

• installation of related software controls that would limit the total hp of the 26,000 hp compressor unit to 23,700 hp;

• conversion of an existing 3,070-square-foot compressor unit building to an office building; and

• other related appurtenances.

The project would involve removing one 22,000 hp and one 19,800 hp natural gas-fired centrifugal turbine compressor unit and the associated auxiliary piping and equipment. Texas Eastern would also remove the 4,352-square-foot building, which houses the existing 22,000 hp compressor unit, to allow for the installation of an 11,780-square-foot building to house the two new replacement compressor units. The replacement activities would require the use of additional temporary workspace beyond the existing facility boundary.

The Commission mailed a copy of the Notice of Availability to federal, state, and local government representatives and agencies; elected officials; Native American tribes; potentially affected landowners and other interested individuals and groups, including commenters; and newspapers and libraries in the project area. The EA is only available in electronic format. It may be viewed and downloaded from FERC's website (www.ferc.gov), on the Environmental Documents page (https://www.ferc.gov/industries/gas/enviro/eis.asp). In addition, the EA may be accessed by using the eLibrary link on the FERC's website. Click on the eLibrary link (https://www.ferc.gov/docs-filing/elibrary.asp), click on General Search, and enter the docket number in the “Docket Number” field, excluding the last three digits (i.e., CP19-191). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on October 31, 2019.

For your convenience, there are three methods you can use to file your comments with the Commission. The Commission encourages electronic filing of comments and has staff available to assist you at (866) 208-3676 or FercOnlineSupport@ferc.gov. Please carefully follow these instructions so that your comments are properly recorded.

(1) You can file your comments electronically using the eComment feature located on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP19-191-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 Code of Federal Regulations 385.214). Motions to intervene are more fully described at http://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Dated: September 30, 2019.
Kimberly D. Bose,
Secretary.

[FR Doc. 2019-21673 Filed 10-3-19; 8:45 am]

BILLING CODE 6717-01-P